DEPARTMENT OF COMMERCE

International Trade Administration

[A-570-084]

Certain Quartz Surface Products From the People's Republic of China: Final Results of the Expedited First Sunset Review of the Antidumping Duty Order

AGENCY: Enforcement and Compliance, International Trade Administration, Department of Commerce.

SUMMARY: As a result of this sunset review, the U.S. Department of Commerce (Commerce) finds that revocation of the antidumping duty (AD) order on certain quartz surface products (quartz surface products) from the People's Republic of China (China) would be likely to lead to continuation or recurrence of dumping. The magnitude of the dumping margin likely to prevail is indicated in the “Final Results of Sunset Review” section of this notice.

DATES: Applicable October 4, 2024.

FOR FURTHER INFORMATION CONTACT: Nathan Araya, AD/CVD Operations, Office II, Enforcement and Compliance, International Trade Administration, U.S. Department of Commerce, 1401 Constitution Avenue NW, Washington, DC 20230; telephone: (202) 482-3401.

SUPPLEMENTARY INFORMATION:

Background

On July 11, 2019, Commerce published the AD order on quartz surface products from China.¹ On June 3, 2024, Commerce published the notice of initiation of the first five-year sunset review of the Order pursuant to section 751(c) of the Tariff Act of 1930, as amended (the Act).² On June 18, 2024, Commerce received notices of intent to participate from Cambria Company LLC, Dal-Tile LLC, and Guidoni USA (collectively, the domestic interested parties) within the 15-day deadline specified in 19 CFR 351.218(d)(1)(i).³ The domestic interested parties claimed interested party status under section 771(9)(c) of the Act as domestic producers engaged in the production of quartz surface products in the United States.

¹ See Certain Quartz Surface Products from the People's Republic of China: Antidumping and Countervailing Duty Orders, 84 FR 33053 (July 11, 2019) (Order).

² See Initiation of Five-Year (Sunset) Reviews, 89 FR 47525 (June 3, 2024).

³ See Letter, “Notice of Intent to Participate,” dated June 18, 2024.

On July 3, 2024, the domestic interested parties submitted a timely substantive response within the 30-day deadline specified in 19 CFR 351.218(d)(3)(i).⁴ Commerce did not receive a substantive response from any other interested party in these proceedings, and no party requested a hearing. On July 22, 2024, Commerce tolled the deadline in this administrative proceeding by seven days.⁵ The deadline for the final results is now October 8, 2024.

⁴ See Domestic Interested Parties' Letter, “Domestic Interested Parties' Substantive Response,” dated July 3, 2024.

⁵ See Memorandum, “Tolling of Deadlines for Antidumping and Countervailing Duty Proceedings,” dated July 22, 2024.

On July 23, 2024, Commerce notified the U.S. International Trade Commission that it did not receive an adequate substantive response from respondent interested parties.⁶ As a result, pursuant to section 751(c)(3)(B) of the Act and 19 CFR 351.218(e)(1)(ii)(C)(2), Commerce conducted an expedited (120-day) sunset review of the Order.

⁶ See Antidumping or Countervailing Duty Order, Finding, or Suspended Investigation; Advance Notification of Sunset Review, 89 FR 35074 (May 1, 2024).

Scope of the Order

The products covered by the Order are quartz surface products. For a complete description of the scope of these Order, see the Issues and Decision Memorandum.⁷

⁷ See Memorandum, “Decision Memorandum for the Final Results of the Expedited First Sunset Review of the Antidumping Duty Order on Quartz Surface Products from the People's Republic of China (China),” dated concurrently with, and hereby adopted by, this notice (Issues and Decision Memorandum).

Analysis of Comments Received

All issues raised in this sunset review are addressed in the Issues and Decision Memorandum.⁸ A list of topics discussed in the Issues and Decision Memorandum is included as the appendix to this notice. The Issues and Decision memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNoticesListLayout.aspx.

⁸ Id.

Final Results of Sunset Review

Pursuant to sections 751(c)(1) and 752(c)(1) and (3) of the Act, Commerce determines that revocation of the Order on quartz surface products from China would likely lead to the continuation or recurrence of dumping, and that the magnitude of the margin of dumping likely to prevail if the Order is revoked for quartz surface products from China are weighted-average margins up to 326.15 percent.

Administrative Protective Order

This notice serves as the only reminder to parties subject to an administrative protective order (APO) of their responsibility concerning the disposition of proprietary information disclosed under APO in accordance with 19 CFR 351.305(a). Timely written notification of the destruction of APO materials or conversion to judicial protective order is hereby requested. Failure to comply with the regulations and terms of an APO is a violation that is subject to sanction.

Notification to Interested Parties

We are issuing and publishing the final results of this expedited sunset review in accordance with sections 751(c), 752(c), and 777(i)(1) of the Act and 19 CFR 351.218.

Dated: September 27, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2024-22939 Filed 10-3-24; 8:45 am]

BILLING CODE 3510-DS-P